DEPARTMENT OF TRANSPORTATION

Maritime Administration

[Docket Number USCG-2013-0363]

Deepwater Port License Application: Liberty Natural Gas LLC, Port Ambrose Deepwater Port; Withdrawal of Application and Termination of Federal Application Review Process

AGENCY: Maritime Administration, U.S. Department of Transportation.

ACTION: Notice of termination of Federal review.

SUMMARY: The Maritime Administration (MARAD) announces the termination of the Liberty Natural Gas LLC (Liberty) Port Ambrose Deepwater Port License Application and all related Federal processing activities required by applicable provisions of the Deepwater Port Act of 1974, as amended (Act).

On September 28, 2015, Liberty submitted to MARAD and the U.S. Coast Guard (USCG) an application under the Act for a license and all Federal authorizations required to own, construct, and operate a deepwater port for the importation of liquefied natural gas (LNG) into the United States. The deepwater port, known as Port Ambrose, was proposed to be located in the offshore waters of New York and New Jersey, in the New York Bight. On June 14, 2013, MARAD and USCG deemed the application complete, designated New York and New Jersey as adjacent coastal states (ACS) and commenced the Federal application review process required under the Act. This process also included a comprehensive environmental assessment, public meetings and coordination of the application review process with relevant Federal and State agencies.

Upon completion of the environmental review process required by the National Environmental Policy Act (NEPA) and the final public licensing hearings, Governor Andrew M. Cuomo of the State of New York, notified the Maritime Administration, by letter dated November 12, 2015, of his disapproval of the Liberty Port Ambrose deepwater port project. Governor Cuomo's disapproval was issued in accordance with the provisions outlined in 33 U.S.C. Section 1508(c)(8) which state, the Secretary (or Maritime Administrator by delegated authority) may issue a deepwater port license only if the Governor of the ACS approves or is presumed to approve, issuance of the license. In light of Governor Cuomo's disapproval of the application, Liberty notified MARAD, by letter dated November 18, 2015, of its withdrawal of the Port Ambrose license application from the Federal review process. As a consequence of Liberty's withdrawal of its application, the Federal application review process and all related Federal processing activities were terminated on November 18, 2015. This Federal Register Notice shall serve as official announcement to the public that the Federal review and processing of the Liberty Port Ambrose deepwater port license application is terminated.

FOR FURTHER INFORMATION CONTACT: Ms. Yvette M. Fields, Director, Office of Deepwater Ports and Offshore Activities, Maritime Administration, telephone 202-366-0926, email: Yvette.Fields@dot.gov.

SUPPLEMENTARY INFORMATION: On September 28, 2012, Liberty submitted to MARAD and USCG an application for a license and all Federal authorizations required to own, construct, and operate a natural gas import deepwater port known as Port Ambrose. Specifically, the Port Ambrose license application proposed construction and operation of an offshore natural gas deepwater port facility that would have been located 16.1 nautical miles southeast of Jones Beach, New York, 24.9 nautical miles east of Long Branch, New Jersey, and 27.1 nautical miles from the entrance to New York Harbor in a water depth of approximately 103 feet.

As required under the Act, MARAD and USCG, acting as co-lead agencies, commenced a formal review of the Port Ambrose deepwater port license application. The review included an application completeness determination, development of a comprehensive Environmental Impact Statement (EIS) as required by NEPA, in-depth review of the financial capacity of the applicant to construct, operate and decommission the proposed deepwater port and assessment of the applicant's ability to meet all other license criteria of the Act. The initial Port Ambrose deepwater port Notice of Application (NOA) was published in the Federal Register on June 14, 2013 (78 FR 36014). The NOA announced completeness of MARAD's and USCG's initial review of the application and commencement of the formal application review process. Thereafter, the required Notice of Intent to prepare an EIS and conduct public scoping meetings was published in the Federal Register on June 24, 2013 (78 FR 37878). The required public scoping meetings were held in Long Beach, New York on July 9, 2013, and in Edison, New Jersey on July 10, 2013. Additionally, an NOA of the Draft EIS (DEIS) was published in the Federal Register on December 16, 2014 (79 FR 74808), and subsequent public meetings seeking public comments on the DEIS were held in Jamaica, New York on January 7, 2015, and in Eatontown, New Jersey on January 8, 2015. On October 16, 2015, an NOA of the Final EIS and Notice of Final Public Licensing Hearings was published in the Federal Register (80 FR 62596). The final hearings were held on November 2, 2015 and November 3, 2015 in Long Beach, New York, and on November 4, 2015 and November 5, 2015 in Eatontown, New Jersey.

Upon conclusion of the final public licensing hearings and completion of consistency reviews by the relevant state agencies, New York Governor Andrew M. Cuomo, by letter dated November 12, 2015, advised MARAD of his disapproval of Liberty's Port Ambrose deepwater port license application. Governor Cuomo disapproved the application in accordance with his authority as an ACS Governor, as provided under Section 1508(b)(1) of the Act. Governor Cuomo's disapproval was based on concerns related to his assessment of the proposed project's inherent security risks, impacts of extreme weather events, disruption of commercial navigation and fishing activities, and the potential interference with currently pending renewable energy projects proposed for the State of New York.

On November 18, 2015, in light of Governor Cuomo's disapproval of the Port Ambrose license application, Liberty notified MARAD of its withdrawal of the application from the Federal review process. As a consequence of the withdrawal of the application, the Federal review process was terminated on November 18, 2015. This public notice serves as an official announcement of the termination of the Liberty Natural Gas Port Ambrose deepwater port license application and all other related Federal processing activities.

Further, as a result of the termination of the application and related processing activities, no Record of Decision (ROD) will be issued by MARAD for the Liberty Port Ambrose license application. It should be noted, however, that all project related information compiled and assessed during the application review will be incorporated into the final administrative record for the Liberty Port Ambrose deepwater license application.

Additional information regarding the Liberty Port Ambrose deepwater port license application, comments, supporting information and other associated documentation are available for viewing at the Federal Docket Management System (FDMS) Web site: http://www.regulations.gov under docket number USCG-2013-0363.

(Authority: 49 CFR 1.93)

* * *

Dated: December 18, 2015.
By Order of the Maritime Administrator.
T. Mitchell Hudson, Jr.,
Secretary, Maritime Administration.

[FR Doc. 2015-32348 Filed 12-23-15; 8:45 am]

BILLING CODE 4910-81-P